COMMISSION ON CIVIL RIGHTS

Notice of Public Meeting of the Texas Advisory Committee; Cancellation

AGENCY: Commission on Civil Rights.

ACTION: Notice; cancellation of meeting date.

SUMMARY: The Commission on Civil Rights published a notice in the Federal Register concerning a meeting of the Texas Advisory Committee. The meeting scheduled for Wednesday, December 14, 2022, at 1 p.m. (CT) is cancelled. The notice is in the Federal Register of Wednesday, November 16, 2022, in FR Doc. 2022-24970, in the first and second column of page 68673.

FOR FURTHER INFORMATION CONTACT: Brooke Peery, (202) 701-1376, bpeery@usccr.gov.

Dated: December 2, 2022.
David Mussatt,
Supervisory Chief, Regional Programs Unit.

[FR Doc. 2022-26573 Filed 12-6-22; 8:45 am]

BILLING CODE P